DEPARTMENT OF AGRICULTURE

Agricultural Marketing Service

7 CFR Part 29

[Docket No. TB-00-23]

Tobacco Inspection—Growers Referendum

AGENCY: Agricultural Marketing Service, USDA.

ACTION: Notice of referendum.

SUMMARY: This document announces that a referendum will be conducted by mail during the period of June 4-8, 2001, for producers of flue-cured tobacco who sell their tobacco at auction in Fairmont-Fair Bluff, North Carolina, and Loris, South Carolina, to determine producer approval of the designation of the Fairmont-Fair Bluff and Loris tobacco markets as one consolidated auction market.

DATES: The referendum will be held June 4-8, 2001.

FOR FURTHER INFORMATION CONTACT: William Coats, Associate Deputy Administrator, Tobacco Programs, Agricultural Marketing Service, United States Department of Agriculture, P.O. Box 96456, Washington, DC 20090-6456; telephone: (202) 205-0508.

SUPPLEMENTARY INFORMATION: Notice is hereby given of a mail referendum on the designation of a consolidated auction market at Fairmont-Fair Bluff, North Carolina, and Loris, South Carolina. Fairmont-Fair Bluff, North Carolina, was designated on April 6, 1995, (7 CFR 29.8001) as a flue-cured tobacco auction market and Loris, South Carolina, was designated on August 16, 1941, under the Tobacco Inspection Act (7 U.S.C. 511 et seq.). Under this Act those markets have been receiving mandatory grading services from USDA.

On September 6, 2000, an application was made to the Secretary of Agriculture to consolidate the designated markets of Fairmont-Fair Bluff, North Carolina, and Loris, South Carolina. The application, filed by sales supervisors on those markets, was made pursuant to the regulations promulgated under the Tobacco Inspection Act (7 CFR part 29.1-29.3). On November 9, 2000, a public hearing was held in Tabor City, North Carolina, pursuant to the regulations. A Review Committee, established pursuant to 7 CFR 29.3(h)), has reviewed and considered the application, the testimony presented at the hearing, the exhibits received in evidence, and other available information. The Committee recommended to the Secretary that the application be granted and the Secretary approved the application on March 27, 2001.

Before a new market can be officially designated, a referendum must be held to determine that a two-thirds majority of producers favor the designation. It is hereby determined that the referendum will be held by mail during the period of June 4-8, 2001. The purpose of the referendum is to determine whether farmers who sold their tobacco on the designated markets at Fairmont-Fair Bluff and Loris are in favor of, or opposed to, the designation of the consolidated market for the 2001 and succeeding crop years. Accordingly, if a two-thirds majority of those tobacco producers voting in the referendum favor the consolidation, a new market will be designated as and will be called Fairmont-Fair Bluff-Loris.

To be eligible to vote in the referendum a tobacco producer must have sold flue-cured tobacco on either the Fairmont-Fair Bluff, North Carolina, or Loris, South Carolina, auction markets during the 2000 marketing season. Any farmer who believes he or she is eligible to vote in the referendum but has not received a mail ballot by June 4, 2001, should immediately contact William Coats at (202) 205-0508.

The referendum will be held in accordance with the provisions for referenda of the Tobacco Inspection Act, as amended (7 U.S.C. 511d), and the regulations for such referendum set forth in 7 CFR 29.74.

Dated: April 25, 2001.
Kenneth C. Clayton,
Acting Administrator, Agricultural Marketing Service.

[FR Doc. 01-10894 Filed 5-1-01; 8:45 am]

BILLING CODE 3410-02-P